DEPARTMENT OF ENERGY

Federal Energy Regulatory Commission

Combined Notice of Filings #1

Take notice that the Commission received the following exempt wholesale generator filings:

Docket Numbers: EG24-64-000.

Applicants: Atrisco Solar LLC.

Description: Atrisco Solar LLC submits Notice of Self-Certification of Exempt Wholesale Generator Status.

Filed Date: 1/4/24.

Accession Number: 20240104-5023.

Comment Date: 5 p.m. ET 1/25/24.

Docket Numbers: EG24-65-000.

Applicants: Atrisco Energy Storage LLC.

Description: Atrisco Energy Storage LLC submits Notice of Self-Certification of Exempt Wholesale Generator Status.

Filed Date: 1/4/24.

Accession Number: 20240104-5025.

Comment Date: 5 p.m. ET 1/25/24.

Docket Numbers: EG24-66-000.

Applicants: Quail Ranch Solar LLC.

Description: Quail Ranch Solar LLC submits Notice of Self-Certification of Exempt Wholesale Generator Status.

Filed Date: 1/4/24.

Accession Number: 20240104-5029.

Comment Date: 5 p.m. ET 1/25/24.

Docket Numbers: EG24-67-000.

Applicants: Quail Ranch Energy Storage LLC.

Description: Quail Ranch Energy Storage LLC submits Notice of Self-Certification of Exempt Wholesale Generator Status.

Filed Date: 1/4/24.

Accession Number: 20240104-5030.

Comment Date: 5 p.m. ET 1/25/24.

Docket Numbers: EG24-68-000.

Applicants: Atrisco Solar SF LLC.

Description: Atrisco Solar SF LLC submits Notice of Self-Certification of Exempt Wholesale Generator Status.

Filed Date: 1/4/24.

Accession Number: 20240104-5033.

Comment Date: 5 p.m. ET 1/25/24.

Docket Numbers: EG24-69-000.

Applicants: Atrisco BESS SF LLC.

Description: Atrisco BESS SF LLC submits Notice of Self-Certification of Exempt Wholesale Generator Status.

Filed Date: 1/4/24.

Accession Number: 20240104-5034.

Comment Date: 5 p.m. ET 1/25/24.

Docket Numbers: EG24-70-000.

Applicants: Quail Ranch Solar SF LLC.

Description: Quail Ranch Solar SF LLC submits Notice of Self-Certification of Exempt Wholesale Generator Status.

Filed Date: 1/4/24.

Accession Number: 20240104-5035.

Comment Date: 5 p.m. ET 1/25/24.

Docket Numbers: EG24-71-000.

Applicants: Quail Ranch BESS SF LLC.

Description: Quail Ranch BESS SF LLC submits Notice of Self-Certification of Exempt Wholesale Generator Status.

Filed Date: 1/4/24.

Accession Number: 20240104-5038.

Comment Date: 5 p.m. ET 1/25/24.

Docket Numbers: EG24-72-000.

Applicants: Alton Post Office Solar, LLC.

Description: Alton Post Office Solar, LLC submits Notice of Self-Certification of Exempt Wholesale Generator Status.

Filed Date: 1/4/24.

Accession Number: 20240104-5071.

Comment Date: 5 p.m. ET 1/25/24.

Docket Numbers: EG24-73-000.

Applicants: Foxglove Solar Project, LLC.

Description: Foxglove Solar Project, LLC submits Notice of Self-Certification of Exempt Wholesale Generator Status.

Filed Date: 1/4/24.

Accession Number: 20240104-5074.

Comment Date: 5 p.m. ET 1/25/24.

Take notice that the Commission received the following electric rate filings:

Docket Numbers: ER23-1445-001; ER23-2937-001; ER23-2938-001; ER23-2939-001.

Applicants: Wolfskin Solar, LLC, Blackwater Solar, LLC, Bird Dog Solar, LLC, Hobnail Solar, LLC.

Description: Notice of Non-Material Change in Status of Hobnail Solar, LLC, et al.

Filed Date: 1/4/24.

Accession Number: 20240104-5149.

Comment Date: 5 p.m. ET 1/25/24.

Docket Numbers: ER24-185-000.

Applicants: The United Illuminating Company.

Description: Refund Report: Refund Report: Localized Costs Sharing Agreement, Generation Bridge CT Holdings to be effective N/A.

Filed Date: 1/4/24.

Accession Number: 20240104-5076.

Comment Date: 5 p.m. ET 1/25/24.

Docket Numbers: ER24-186-000.

Applicants: The United Illuminating Company.

Description: Refund Report: Refund Report: Localized Costs Sharing Agreement, Generation Bridge M&M Holdings to be effective N/A.

Filed Date: 1/4/24.

Accession Number: 20240104-5079.

Comment Date: 5 p.m. ET 1/25/24.

Docket Numbers: ER24-187-000.

Applicants: The United Illuminating Company.

Description: Refund Report: Refund Report: Localized Costs Sharing Agreement, Quinebaug Solar, LLC to be effective N/A.

Filed Date: 1/4/24.

Accession Number: 20240104-5081.

Comment Date: 5 p.m. ET 1/25/24.

Docket Numbers: ER24-811-000.

Applicants: Southwest Power Pool, Inc.

Description: 205(d) Rate Filing: 3789 Flat Ridge 4 Wind GIA Cancellation to be effective 12/12/2023.

Filed Date: 1/3/24.

Accession Number: 20240103-5165.

Comment Date: 5 p.m. ET 1/24/24.

Docket Numbers: ER24-812-000.

Applicants: Southwest Power Pool, Inc.

Description: 205(d) Rate Filing: 3945 Skyview Wind Project/ITC Great Plains E&P Agr Cancel to be effective 9/27/2023.

Filed Date: 1/3/24.

Accession Number: 20240103-5167.

Comment Date: 5 p.m. ET 1/24/24.

Docket Numbers: ER24-813-000.

Applicants: Public Service Company of New Mexico.

Description: 205(d) Rate Filing: Limited-Scope, Single Issue Filing to Revise Depreciation Rates to be effective 1/4/2024.

Filed Date: 1/3/24.

Accession Number: 20240103-5172.

Comment Date: 5 p.m. ET 1/24/24.

Docket Numbers: ER24-814-000.

Applicants: Consolidated Edison Company of New York, Inc., New York Independent System Operator, Inc.

Description: 205(d) Rate Filing: Consolidated Edison Company of New York, Inc. submits tariff filing per 35.13(a)(2)(iii: NYISO-Con Edison Joint 205: LGIA Empire Wind 1 Project SA2811 (CEII) to be effective 12/19/2023.

Filed Date: 1/4/24.

Accession Number: 20240104-5088.

Comment Date: 5 p.m. ET 1/25/24.

Docket Numbers: ER24-815-000.

Applicants: Northern States Power Company, a Minnesota corporation.

Description: 205(d) Rate Filing: 2024-01-04 MMPA East Shakopee FSA 753-NSP to be effective 1/5/2024.

Filed Date: 1/4/24.

Accession Number: 20240104-5093.

Comment Date: 5 p.m. ET 1/25/24.

Docket Numbers: ER24-816-000.

Applicants: Puget Sound Energy, Inc.

Description: 205(d) Rate Filing: Boeing NITSA (SA-5016), NOA (SA-5017) and IA (SA-5018) to be effective 1/1/2024.

Filed Date: 1/4/24.

Accession Number: 20240104-5110.

Comment Date: 5 p.m. ET 1/25/24.

Docket Numbers: ER24-817-000.

Applicants: Babbitt Ranch Energy Center, LLC.

Description: Baseline eTariff Filing: Babbitt Ranch Energy Center, LLC Application for MBR Authorization to be effective 3/5/2024.

Filed Date: 1/4/24.

Accession Number: 20240104-5126.

Comment Date: 5 p.m. ET 1/25/24.

Docket Numbers: ER24-818-000.

Applicants: Yellow Pine Solar II, LLC.

Description: Baseline eTariff Filing: Yellow Pine Solar II, LLC Application for MBR Authorization to be effective 3/5/2024.

Filed Date: 1/4/24.

Accession Number: 20240104-5130.

Comment Date: 5 p.m. ET 1/25/24.

Docket Numbers: ER24-819-000.

Applicants: Indianapolis Power & Light Company, Hardy Hills Solar Energy LLC.

Description: Request for Authorization to Undertake Affiliate Sales of Hardy Hills Solar Energy LLC, et. al.

Filed Date: 1/3/24.

Accession Number: 20240103-5208.

Comment Date: 5 p.m. ET 1/24/24.

Docket Numbers: ER24-820-000.

Applicants: Duke Energy Florida, LLC.

Description: Tariff Amendment: DEF-G2—Notice of Cancellation SA No. 155 to be effective 3/5/2024.

Filed Date: 1/4/24.

Accession Number: 20240104-5152.

Comment Date: 5 p.m. ET 1/25/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 4, 2024.
Debbie-Anne A. Reese,
Acting Secretary.

[FR Doc. 2024-00578 Filed 1-11-24; 8:45 am]

BILLING CODE 6717-01-P